DEPARTMENT OF THE INTERIOR

National Park Service

[NPS-WASO-NAGPRA-NPS0040436; PPWOCRADN0-PCU00RP14.R50000]

Notice of Inventory Completion: The Newark Museum of Art, Newark, NJ

AGENCY: National Park Service, Interior.

ACTION: Notice.

SUMMARY: In accordance with the Native American Graves Protection and Repatriation Act (NAGPRA), The Newark Museum of Art has completed an inventory of human remains and has determined that there is a cultural affiliation between the human remains and Indian Tribes or Native Hawaiian organizations in this notice.

DATES: Repatriation of the human remains in this notice may occur on or after July 28, 2025.

ADDRESSES: Send written requests for repatriation of the human remains in this notice to Amber W. Germano, Senior Registrar, The Newark Museum of Art, 49 Washington Street, Newark, NJ 07102, email agermano@newarkmuseumart.org.

SUPPLEMENTARY INFORMATION: This notice is published as part of the National Park Service's administrative responsibilities under NAGPRA. The determinations in this notice are the sole responsibility of The Newark Museum of Art, and additional information on the determinations in this notice, including the results of consultation, can be found in its inventory or related records. The National Park Service is not responsible for the determinations in this notice.

Abstract of Information Available

Human remains representing, at least, two individuals have been identified. No associated funerary objects are present.

A human lower jawbone of unknown age was donated to the museum by Chester Robotham and accepted into the Museum's collections December 30, 1915. According to Museum records, the ancestral remains were taken from Ft. Pierce, FL and are listed in the Museum catalogue as Seminole.

Additionally, a donation of human bone fragments representing at least one individual was donated to the Museum by David M. Harris in May of 1915. These ancestral remains are of unknown age and were excavated near an Indian shell mound in Mound Park, St. Petersburg, FL.

Both Fort Pierce and Mound Park, St. Petersburg are located within the ancestral lands of the Seminole Tribe of Florida, the Seminole Nation of Oklahoma, and the Miccosukee Tribe of Indians of Florida.

The Newark Museum of Art has no record of treating these ancestral remains with conservation methods involving toxic pesticides or other dangerous substances. The Museum has not tested them for toxicity. However, at the time these individuals were accessioned it was common practice to use poisonous substances for conservation purposes.

Cultural Affiliation

Based on the information available and the results of consultation, cultural affiliation is reasonably identified by the geographical location or acquisition history of the human remains described in this notice.

Determinations

The Newark Museum of Art has determined that:

• The human remains described in this notice represent the physical remains of at least two individuals of Native American ancestry.

• There is a connection between the human remains described in this notice and the Miccosukee Tribe of Indians; Seminole Tribe of Florida; and The Seminole Nation of Oklahoma.

Requests for Repatriation

Written requests for repatriation of the human remains in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains described in this notice to a requestor may occur on or after July 28, 2025. If competing requests for repatriation are received, The Newark Museum of Art must determine the most appropriate requestor prior to repatriation. Requests for joint repatriation of the human remains are considered a single request and not competing requests. The Newark Museum of Art is responsible for sending a copy of this notice to the Indian Tribes and Native Hawaiian organizations identified in this notice.

Authority: Native American Graves Protection and Repatriation Act, 25 U.S.C. 3003, and the implementing regulations, 43 CFR 10.10.

Dated: June 17, 2025.
Melanie O'Brien,
Manager, National NAGPRA Program.

[FR Doc. 2025-11931 Filed 6-26-25; 8:45 am]

BILLING CODE 4312-52-P